DEPARTMENT OF HEALTH AND HUMAN SERVICES

National Institutes of Health

National Heart, Lung, and Blood Institute; Amended Notice of Meeting

Notice is hereby given of a change in the meeting of the Clinical Trials Review Committee, June 23, 2003, 8 a.m. to June 24, 2003, 5 p.m., Hyatt Regency Bethesda, One Bethesda Metro Center, 7400 Wisconsin Avenue, Bethesda, MD 20814 which was published in the Federal Register on March 26, 2003, 68 FR 14671-14672.

The meeting will be held June 23, 2003 for one day only. The meeting is closed to the public.

Dated: October 9, 2003.
LaVerne Y. Stringfield,
Director, Office of Federal Advisory Committee Policy.

[FR Doc. 03-26361 Filed 10-17-03; 8:45 am]

BILLING CODE 4140-01-M